DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Capital Construction Fund—Deposit/Withdrawal Report.

OMB Control Number: 0648-0041.

Form Number(s): NOAA Form 34-82.

Type of Request: Regular submission.

Number of Respondents: 1,200.

Average Hours per Response: 20 minutes.

Burden Hours: 3,600.

Needs and Uses: Respondents are fishermen holding Fishing Vessel Capital Construction Fund (FVCCF) agreements. The FVCCF is a tax-deferral program for fishing vessel construction, acquisition, or reconstruction. Information collected on the NOAA Form 34-82 is used in checking for respondents' compliance with program requirements and for inconsistencies in their reporting of program-related adjustments to their income. The deposit and withdrawal information is also required, by the Merchant Marine Act of 1936, to be annually reported to the Secretary of Treasury.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 16, 2009.
Gwellnar Banks,
Management Analyst, Office of the Chief Information Officer.

[FR Doc. E9-14539 Filed 6-19-09; 8:45 am]

BILLING CODE 3510-22-P